DEPARTMENT OF AGRICULTURE

Office of the Secretary

Determination of Total Amounts and Quota Period for Tariff-Rate Quotas for Raw Cane Sugar and Certain Imported Sugars, Syrups, and Molasses

AGENCY: Office of the Secretary, USDA.

ACTION: Notice.

SUMMARY: This notice establishes the aggregate quantity of 1,254,983 metric tons raw value of sugar that may be entered under the provisions of additional U.S. note 5(a) of the Harmonized Tariff Schedule of the United States (HTS) during fiscal year (FY) 2002. The following quantities are established for entry: 1,117,195 metric tons raw value of raw sugar under subheading 1701.11.10 of the HTS; 34,000 metric tons raw value of certain sugars, syrups, and molasses under subheadings 1701.12.10, 1701.91.10, 1701.99.10, 1702.90.10, and 2106.90.44; and 137,788 metric tons raw value of sugar from Mexico in accordance with the terms of the North American Free Trade Agreement (NAFTA).

EFFECTIVE DATE: April 15, 2002.

ADDRESSES: Inquiries may be mailed or delivered to the Import Policies and Programs Division Director, Foreign Agricultural Service, AgStop 1021, South Building, U.S. Department of Agriculture, Washington, DC 20250-1021.

FOR FURTHER INFORMATION CONTACT: Richard Blabey (Division Director, Import Policy and Programs Division), 202-720-2916.

SUPPLEMENTARY INFORMATION: Paragraph (a)(i) of additional U.S. note 5 to chapter 17 of the HTS provides, in pertinent part, as follows:

The aggregate quantity of raw cane sugar entered, or withdrawn from warehouse for consumption, under subheading 1701.11.10, during any fiscally year, shall not exceed in the aggregate an amount (expressed in terms of raw value), not less than 1,117,195 metric tons, as shall be established by the Secretary of Agriculture * * *, and the aggregate quantity of sugars, syrups and molasses entered, or withdrawn from warehouse for consumption, under subheading 1701.12.10, 1701.91.10, 1701.99.10, 1702.90.10 and 2106.90.44, during any fiscal year, shall not exceed in the aggregate an amount (expressed in terms of raw value), not less than 22,000 metric tons, as shall be established by the Secretary. With either the aggregate quantity for raw cane sugar or the aggregate quantity for sugars, syrups and molasses other than raw cane sugar, the Secretary may reserve a quota quantity for the importation of specialty sugars as defined by the United States Trade Representative.

These provisions of paragraph (a)(i) of additional U.S. note 5 to chapter 17 of the HTS authorize the Secretary of Agriculture to establish the total amounts (expressed in terms of raw value) for imports of raw cane sugar and certain other sugars, syrups, and molasses that may be entered under the subheadings of the HTS subject to the lower tier of duties of the tariff-rate quotas (TRQs) for entry during the fiscal year beginning October 1. Allocations of the quota amounts among supplying countries and areas will be made by the United States Trade Representative.

Notice

I hereby give notice, in accordance with paragraph (a)(i) of additional U.S. note 5 to chapter 17 of the HTS, that an aggregate quantity of up to 1,254,983 metric tons, raw value, of raw cane sugar described in subheading 1701.11.10 of the HTS may be entered or withdrawn from warehouse for consumption during the period from October 1, 2001, through September 30, 2002. This TRQ amount may be allocated among supplying countries and areas by the United States Trade Representative.

I will issue Certificates of Quota Eligibility (CQEs) to allow Brazil, the Dominican Republic, and the Philippines to ship up to 25 percent of their respective initial country allocations at the low-tier tariff during each quarter of FY 2002. I will allow Mexico to ship up to 15 percent, 35 percent, 35 percent, and 15 percent of its NAFTA allocation during each quarter of FY 2002. Argentina, Australia, Guatemala, and Peru will be allowed to ship up to 50 percent of their respective initial country allocations in the first 6 months of FY 2002. Unentered allocations, during any quarter or 6-month period, may be entered in any subsequent period. For all other countries, CQEs corresponding to their respective country allocations may be entered at the low-tier tariff at any time during the fiscal year.

I have further determined that an aggregate quantity of up to 171,788 metric tons raw value of certain sugars, syrups, and molasses described in subheadings 1701.12.10, 1701.91.10, 1701.99.10, 1702.90.10, and2106.90.44 of the HTS may be entered or withdrawn from warehouse for consumption during the period from October 1, 2001 through September 30, 2002. I have further determined that out of this quantity of 171,788 metric tons, the quantity of 13,656 metric tons raw value is reserved for the importation of specialty sugars. These TRQ amounts may be allocated among supplying countries and areas by the United States Trade Representative.

Mexico's NAFTA access of 137,788 metric tons raw value may enter the U.S. market as either raw or refined sugar, pursuant to Annex 703.2 of the NAFTA.

Signed at Washington, D.C. on April 9, 2002.
Ann M. Veneman,
Secretary of Agriculture.

[FR Doc. 02-9054 Filed 4-12-02; 8:45 am]

BILLING CODE 3410-10-M